DEPARTMENT OF AGRICULTURE

Animal and Plant Health Inspection Service

[Docket No. 04-050-1]

National Animal Identification System; Public Meetings

AGENCY: Animal and Plant Health Inspection Service, USDA.

ACTION: Notice of public meetings.

SUMMARY: We are advising the public that the Under Secretary for Marketing and Regulatory Programs, U.S. Department of Agriculture, will host a series of listening sessions to provide livestock producers and other stakeholders with the opportunity to offer their comments regarding the Department's implementation of a National Animal Identification System.

DATES: The public meetings will be held in Oregon on July 1, 2004; in California on July 10, 2004; in New Mexico on July 16, 2004; in Washington (State) on July 23, 2004; in Colorado on August 10, 2004; in Montana on August 13, 2004; in Florida on August 16, 2004; in Ohio on August 18, 2004; in Iowa on August 26, 2004; in Missouri on August 27, 2004; in Wisconsin on August 30, 2004; and in Minnesota on August 31, 2004. Information regarding the specific time of each session will be made available as soon as arrangements are finalized (see SUPPLEMENTARY INFORMATION).

ADDRESSES: The public meetings will be held in the following cities:

• Prineville, OR;

• Stockton, CA;

• Socorro, NM;

• Pasco, WA;

• Greeley, CO;

• Billings, MT;

• Kissimmee, FL;

• Columbus, OH;

• Ames, IA;

• Joplin, MO;

• Appleton, WI; and

• St. Cloud, MN.

Information regarding the specific location of each session will be made available as soon as arrangements are finalized (see SUPPLEMENTARY INFORMATION).

FOR FURTHER INFORMATION CONTACT: Mr. Neil Hammerschmidt, Animal Identification Officer, National Center for Animal Health Programs, VS, APHIS, 4700 River Road Unit 43, Riverdale, MD 20737-1231, (301) 734-5571.

SUPPLEMENTARY INFORMATION: On December 30, 2003, the Secretary of Agriculture announced that the U.S. Department of Agriculture (USDA) would expedite the implementation of a national animal identification system for all species after the discovery of bovine spongiform encephalopathy in a cow in Washington State. On April 27, 2004, following several months of a USDA working group's efforts to develop an implementation framework for a U.S. animal identification plan, the Secretary announced the framework for implementation of a National Animal Identification System (NAIS) designed to identify any agricultural premises exposed to a foreign animal disease so that it can be more quickly contained and eradicated. The Secretary also announced that $18.8 million would be transferred from the Department's Commodity Credit Corporation to provide initial funding for the program during fiscal year (FY) 2004. The FY 2004 funding has been earmarked for the initial infrastructure development and implementation of the national system, but both private and public support will be required to make it fully operational. The Administration's proposed FY 2005 budget includes another $33 million for the effort.

The implementation of a NAIS will be conducted in three main phases. Under Phase I, USDA will evaluate current federally funded animal identification systems and determine which system(s) should be used for a NAIS, further the dialog with producers and other stakeholders on the operation of a NAIS, identify staffing needs, and develop any regulatory and legislative proposals needed for implementing the system.

Phase II will involve the implementation of the animal identification system at regional levels for one or more species, continuation of the communication and education effort, addressing regulatory needs, and working with Congress on any needed legislation.

In Phase III, the animal identification system(s) would be scaled up to the national level.

The first step in the process is to select an interim data repository to handle incoming national premises data. USDA has commissioned an independent analysis of repositories that are currently part of various USDA-funded animal identification projects around the country. Once the system is identified that shows greatest potential for use on a national level, USDA will enter into cooperative agreements with States, Indian tribes, and other government entities to assist them in adapting their existing systems to the new system.

USDA is committed to developing a program that is technology neutral, so as to provide producers, to the extent possible, the flexibility to use current and effective systems and technologies, as well as adopt new technologies as they are developed.

As noted previously, one element of USDA's Phase I efforts is furthering the dialog with producers and other stakeholders on the operation of a NAIS. To provide an opportunity for such a dialog, the Under Secretary for Marketing and Regulatory Programs, USDA, will host a series of listening sessions across the country to provide livestock producers and other stakeholders with the opportunity to offer their comments regarding the implementation of the NAIS.

In order to provide interested persons with as much advance notice of the listening sessions as possible, we are publishing this notice before we have finalized the precise locations and times of each listening session. As soon as the arrangements for the listening session in each city are finalized, we will post information regarding the location and time of the session on the NAIS Web page (http://www.aphis.usda.gov/lpa/issues/nais/nais.html) maintained by the USDA's Animal and Plant Health Inspection Service (APHIS). In addition, APHIS' Legislative and Public Affairs staff will issue press releases and undertake other outreach activities to ensure that this information is made as widely available as possible.

The tentative agenda for each listening session is as follows:

• Opening remarks from the Under Secretary;

• Remarks from other officials who may be in attendance (e.g., Members of Congress, State agriculture secretaries or commissioners);

• An overview of the NAIS presented by APHIS' Veterinary Services program;

• Opportunity for remarks from livestock producers and other stakeholders in attendance. If the number of persons wishing to speak warrants it, USDA may limit the time for each presentation so that everyone wishing to speak has the opportunity to do so.

A transcript will be made of each listening session, and the transcript will be placed on the NAIS Web page.

Done in Washington, DC, this 21st day of June 2004.
W. Ron DeHaven,
Administrator, Animal and Plant Health Inspection Service.

[FR Doc. 04-14433 Filed 6-24-04; 8:45 am]

BILLING CODE 3410-34-P